ENVIRONMENTAL PROTECTION AGENCY

[FRL-9630-3]

Farm, Ranch, and Rural Communities Committee (FRRCC)

AGENCY: Environmental Protection Agency (EPA).

ACTION: Notice of Request for Nominations to the Farm, Ranch, and Rural Communities Committee (FRRCC).

SUMMARY: The U.S. Environmental Protection Agency (EPA) invites nominations from a diverse range of qualified candidates to be considered for appointment to the Farm, Ranch, and Rural Communities Federal Advisory Committee (FRRCC). Vacancies are anticipated to be filled by May 2012. Sources in addition to this Federal Register Notice may also be utilized in the solicitation of nominees.

Background: The FRRCC is a federal advisory committee chartered under the Federal Advisory Committee Act (FACA), Public Law 92-463. The FRRCC was established in 2008 and provides independent advice to the EPA Administrator on a broad range of environmental issues and policies that are of importance to agriculture and rural communities. Members serve as representatives from academia, industry (e.g., farm groups and allied industries), non-governmental organizations, and state, local, and tribal governments.

Members are appointed by the EPA Administrator for two-year terms with the possibility of reappointment. The FRRCC generally meets two (2) times annually, or as needed and approved by the Designated Federal Officer (DFO). Meetings will generally be held in Washington, DC. Members serve on the Committee in a voluntary capacity.

We are unable to provide honoraria or compensation for your services. However, if needed, you may receive travel and per diem allowances where appropriate and according to applicable federal travel regulations. EPA is seeking nominations from all sectors, including academia, industry (e.g., farm groups and allied industries), non-governmental organizations, and state, local, and tribal governments. Members who are actively engaged in farming or ranching are encouraged to apply. EPA values and welcomes diversity. In an effort to obtain nominations of diverse candidates, EPA encourages nominations of women and men of all racial and ethnic groups.

In selecting Committee members, EPA will seek candidates who possess: Extensive professional knowledge of agricultural issues and environmental policy; a demonstrated ability to examine and analyze complicated environmental issues with objectivity and integrity; excellent interpersonal as well as oral and written communication skills; and an ability and willingness to participate in a deliberative and collaborative process. In addition, well-qualified applicants must be prepared to process a substantial amount of complex and technical information, and have the ability to volunteer approximately 10 to 15 hours per month to the Committee's activities, including participation in teleconference meetings and preparation of text for Committee reports.

Submissions Procedure: All nominations must be identified by name, occupation, organization, position, current business address, email address, and daytime telephone number, and must include: (1) A resume detailing relevant experience and professional and educational qualifications of the nominee; and (2) a brief statement (one page or less) describing the nominee's interest in serving on the Committee. Interested candidates may self-nominate.

DATES: Applicants are encouraged to submit all nominations materials by March 15, 2012 in order to ensure fullest consideration.

ADDRESSES: Submit all nominations to: Alicia Kaiser, Designated Federal Officer, Office of the Administrator, U.S. Environmental Protection Agency (MC 1101A), 1200 Pennsylvania Avenue NW., Washington, DC 20460. You may also email nominations with the subject line Committee Nomination to: Kaiser.Alicia@epa.gov.

FOR FURTHER INFORMATION CONTACT: Alicia Kaiser, Designated Federal Officer, U.S. Environmental Protection Agency; Email: Kaiser.Alicia@epa.gov; Telephone: (202) 564-7273.

Dated: February 6, 2012.
Alicia Kaiser,
Designated Federal Officer.

[FR Doc. 2012-3294 Filed 2-10-12; 8:45 am]

BILLING CODE 6560-50-P